DEPARTMENT OF COMMERCE

International Trade Administration

[Application No. 90-9A007]

Export Trade Certificate of Review

ACTION: Notice of application for an amended Export Trade Certificate of Review for the United States Surimi Commission, Application No. 90-9A007.

SUMMARY: The Secretary of Commerce, through the Office of Trade and Economic Analysis (OTEA) of the International Trade Administration, has received an application for an amended Export Trade Certificate of Review (Certificate). This notice summarizes the proposed application and seeks public comments on whether the Certificate should be issued.

FOR FURTHER INFORMATION CONTACT: Joseph Flynn, Director, OTEA, International Trade Administration, (202) 482-5131 (this is not a toll-free number) or email at etca@trade.gov.

SUPPLEMENTARY INFORMATION: Title III of the Export Trading Company Act of 1982 (15 U.S.C. 4011-21) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to ETCA@trade.gov. An original and two (2) copies should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number No. 90-9A007.”

Summary of the Application

Applicant: United States Surimi Commission, c/o Mundt MacGregor L.L.P., 271 Wyatt Way NE, Suite 106, Bainbridge Island, Washington USA 98110.

Contact: Duncan R. McIntosh, Attorney at Law, Mundt MacGregor L.L.P.

Application No.: 90-9A007.

Date Deemed Submitted: February 13, 2024.

Proposed Amendment: United States Surimi Commission seeks to amend its Certificate as follows:

1. Add the following entities as Members of the Certificate within the meaning of section 325.2(l) of the Regulations (15 CFR 325.2(l)):

• Arctic Fjord II LLC

• Arctic Storm Holding Company LLC

• Coastal Alaska Premier Seafoods, LLC

• F/V Neahkahnie LLC

• Fishery Investments, Ltd.

• Phoenix Processor Limited Partnership

2. Remove the following companies as Members of the Certificate:

• AF International, Inc.

• Aleutian Spray Fisheries, Inc

• Fjord Seafoods LLC

• Fjord Fisheries General Partnership

• NWPI, Inc.

• Starbound LLC

United States Surimi Commission's proposed amendment of its Certificate would result in the following Membership list:

1. American Seafoods Company LLC, Seattle, WA

2. American Seafoods Japan, Ltd., Seattle, WA

3. AS Europe ApS, Seattle, WA

4. American Seafoods China (Dalian) Ltd., Seattle, WA

5. Arctic Storm, Inc., Seattle, WA

6. Arctic Storm International, Inc., Seattle, WA

7. Arctic Fjord, Inc., Seattle, WA

8. Arctic Fjord II LLC, Seattle, WA

9. F/V Neahkahnie LLC, Seattle, WA

10. Arctic Storm Management Group LLC, Seattle, WA

11. Arctic Storm Holding Company LLC, Seattle, WA

12. Glacier Fish Company LLC, Seattle, WA

13. ASM Export Co., Seattle, WA

14. Coastal Alaska Premier Seafoods, LLC, Anchorage, AK

15. Phoenix Processor Limited Partnership, Seattle, WA

16. Fishery Investments, Ltd., Seattle, WA

Dated: February 23, 2024.
Joseph Flynn,
Director, Office of Trade and Economic Analysis, International Trade Administration, U.S. Department of Commerce.

[FR Doc. 2024-04083 Filed 2-27-24; 8:45 am]

BILLING CODE 3510-DR-P